UNITED STATES INSTITUTE OF PEACE

Sunshine Act

DATE/TIME: Thursday—June 15, 2000 (4 p.m.-9:00 p.m.), Friday—June 16, 2000 (9 a.m.-6 p.m.), Saturday—June 17, 2000 (9 a.m.-12 noon).

LOCATION: Airlie Conference Center, Airlie, Virginia.

STATUS: Open Session—Portions may be closed pursuant to Subsection (c) of Section 552(b) of Title 5, United States Code, as provided in subsection 1706(h)(3) of the United States Institute of Peace Act, Public Law 98-525.

AGENDA: June 2000 Board Meeting; Approval of Minutes of the Ninety-Fourth Meeting (March 16, 2000) of the Board of Directors; Chairman's Report; President's Report; Review and Discussion of Individual Grants and Fellowships; Review Essay Finalists and Select Winners; Committee Reports; Discuss Research & Studies Project Reports; Review Fellowship Policies; Review Plans for Education and Training Programs; Other General Issues.

CONTACT: Dr. Sheryl Brown, Director, Office of Communications, Telephone: (202) 457-1700.

Dated: May 31, 2000.
Charles E. Nelson,
Vice President for Management and Finance, United States Institute of Peace.

[FR Doc. 00-14575 Filed 6-5-00; 4:59 pm]

BILLING CODE 6820-AR-M